DEPARTMENT OF ENERGY

Federal Energy Regulatory Commission

Combined Notice of Filings #1

January 29, 2009.

Take notice that the Commission received the following electric corporate filings:

Docket Numbers: EC09-51-000.

Applicants: FirstEnergy Generation Corp.

Description: FirstEnergy Generation Corp submits an application requesting authorization to transfer and assign an interest in a jurisdictional contract to Buckeye Power Generating, LLC for Waivers of Filing Requirements etc.

Filed Date: 01/27/2009.

Accession Number: 20090129-0128.

Comment Date: 5 p.m. Eastern Time on Tuesday, February 17, 2009.

Take notice that the Commission received the following exempt wholesale generator filings:

Docket Numbers: EG09-26-000.

Applicants: Canandaigua Power Partners LLC.

Description: Self Certification Notice of Canandaigua Power Partners LLC as an Exempt Wholesale Generator.

Filed Date: 01/28/2009.

Accession Number: 20090128-5072.

Comment Date: 5 p.m. Eastern Time on Wednesday, February 18, 2009.

Docket Numbers: EG09-27-000.

Applicants: Canandaigua Power Partners II, LLC.

Description: Self Certification Notice of Canandaigua Power Partners II, LLC, as an Exempt Wholesale Generator.

Filed Date: 01/28/2009.

Accession Number: 20090128-5073.

Comment Date: 5 p.m. Eastern Time on Wednesday, February 18, 2009.

Take notice that the Commission received the following electric rate filings:

Docket Numbers: ER99-1695-015; ER98-1767-016; ER99-2984-012; ER02-1942-010; ER04-878-004; ER05-305-005; ER07-501-017.

Applicants: Birchwood Power Partners, L.P., Elwood Energy, LLC, Green Country Energy, LLC, Tenaska Frontier Partners, Ltd., Tenaska Virginia Partners, LP, Pinelawn Power LLC, Equus Power I, L.P.

Description: J-Power North America Holdings, Ltd submits a non-material change in status with respect to each company's eligibility for market-based rate wholesale power sales authority.

Filed Date: 01/21/2009.

Accession Number: 20090127-0301.

Comment Date: 5 p.m. Eastern Time on Wednesday, February 11, 2009.

Docket Numbers: ER00-3240-011; ER01-1633-008; ER03-1383-011; ER96-780-021.

Applicants: Southern Company Services, Inc., Southern Company—Florida LLC, Oleander Power Project, L.P., DeSoto County Generating Company, LLC.

Description: Southern Companies submits Report of Non-Material Change in Status and Order 697 Compliance filing.

Filed Date: 01/21/2009.

Accession Number: 20090127-0304.

Comment Date: 5 p.m. Eastern Time on Wednesday, February 11, 2009.

Docket Numbers: ER03-720-012.

Applicants: New Covert Generating Company, LLC

Description: New Covert Generating Co, LLC submits a revised market-based rate tariff pursuant to Order 697, to be effective 1/6/09.

Filed Date: 01/23/2009.

Accession Number: 20090127-0307.

Comment Date: 5 p.m. Eastern Time on Friday, February 13, 2009.

Docket Numbers: ER06-743-002.

Applicants: Air Liquide Large Industries U.S. LP

Description: Air Liquide Large Industries US, LP submits an application for determination that they qualify for Category 1 Status and therefore exempt to submit an updated market power analysis every three years.

Filed Date: 01/21/2009.

Accession Number: 20090126-0216.

Comment Date: 5 p.m. Eastern Time on Wednesday, February 11, 2009.

Docket Numbers: ER06-771-002; ER06-772-002; ER06-773-002.

Applicants: ExxonMobil Baton Rouge Complex, ExxonMobil Beaumont Complex, ExxonMobil Labarge Shute Creek Treating.

Description: Exxon Mobil Entities submits supplement to Order No. 697 Compliance Filing.

Filed Date: 01/28/2009.

Accession Number: 20090128-5118.

Comment Date: 5 p.m. Eastern Time on Wednesday, February 18, 2009.

Docket Numbers: ER08-303-004; ER00-2469-004.

Applicants: Williams Gas Marketing, Inc.; Williams Flexible Generation, LLC.

Description: Notice of Non-Material Change in Status by Williams Gas Marketing, Inc. and Williams Flexible Generation, LLC.

Filed Date: 01/28/2009.

Accession Number: 20090128-5123.

Comment Date: 5 p.m. Eastern Time on Wednesday, February 18, 2009.

Docket Numbers: ER08-810-001.

Applicants: PacifiCorp.

Description: PacifiCorp submits revisions to First Revised Service Agreement No. 67 dated 8/1/97 etc.

Filed Date: 01/23/2009.

Accession Number: 20090127-0308.

Comment Date: 5 p.m. Eastern Time on Friday, February 13, 2009.

Docket Numbers: ER08-1335-003.

Applicants: Southern Company Services, Inc.

Description: Southern Companies submits their Third Substitute Fourth Revised Service Agreement 391 in compliance with FERC's 1/9/09 Order.

Filed Date: 01/27/2009.

Accession Number: 20090129-0146.

Comment Date: 5 p.m. Eastern Time on Tuesday, February 17, 2009.

Docket Numbers: ER09-24-001; ER07-1372-016; ER08-1254-001; ER08-1257-002.

Applicants: Midwest Independent Transmission System Operator, Inc.

Description: Midwest Independent Transmission System Operator, Inc. submits proposed revisions to the Open Access Transmission, Energy and Operating Reserve Markets Tariff to comply with FERC's 12/18/08 Order.

Filed Date: 01/22/2009.

Accession Number: 20090127-0200.

Comment Date: 5 p.m. Eastern Time on Thursday, February 12, 2009.

Docket Numbers: ER09-149-002.

Applicants: Southwest Power Pool, Inc.

Description: Southwest Power Pool, Inc. submits revisions to its Open Access Transmission Tariff pursuant to the Commission's 12/18/08 Order.

Filed Date: 01/21/2009.

Accession Number: 20090127-0305.

Comment Date: 5 p.m. Eastern Time on Wednesday, February 11, 2009.

Docket Numbers: ER09-179-001.

Applicants: Carolina Power & Light Company.

Description: Progress Energy Carolinas, Inc. et al. submits compliance filing concerning a cost-based Power Purchase Agreement with The City of Canden, South Carolina, to be effective 1/1/09.

Filed Date: 01/21/2009.

Accession Number: 20090127-0302.

Comment Date: 5 p.m. Eastern Time on Wednesday, February 11, 2009.

Docket Numbers: ER09-214-001.

Applicants: Mt. Carmel Cogen, Inc.

Description: Mt. Carmel Cogen, Inc. submits revised tariff sheets designating Mt. Carmel's tariff as effective 1/3/09.

Filed Date: 01/28/2009.

Accession Number: 20090129-0144.

Comment Date: 5 p.m. Eastern Time on Wednesday, February 18, 2009.

Docket Numbers: ER09-291-001.

Applicants: ISO New England Inc.

Description: ISO New England Inc. submits proposed revisions to the Coordination Agreement with the New York Independent System Operator in compliance with the Commission's 12/18/08 letter order.

Filed Date: 01/21/2009.

Accession Number: 20090127-0303.

Comment Date: 5 p.m. Eastern Time on Wednesday, February 11, 2009.

Docket Numbers: ER09-554-000.

Applicants: EcoGrove Wind, LLC.

Description: EcoGrove Wind, LLC submits a request for acceptance of its application for FERC Electric Tariff, Original Volume 1 etc.

Filed Date: 01/23/2009.

Accession Number: 20090127-0306.

Comment Date: 5 p.m. Eastern Time on Friday, February 13, 2009.

Docket Numbers: ER09-566-000.

Applicants: Midwest Independent Transmission System Operator, Inc.

Description: Motion of the Midwest Independent Transmission System Operator, Inc. regarding eligibility of certain contracts as capacity resources, request for expedited consideration and for a shortened comment period.

Filed Date: 01/21/2009.

Accession Number: 20090126-0301.

Comment Date: 5 p.m. Eastern Time on Thursday, February 5, 2009.

Docket Numbers: ER09-571-000.

Applicants: Southern California Edison Company.

Description: Southern California Edison Co. submits Small Generator Interconnection Agreement and Service Agreement for Wholesale Distribution Service with Ventura Regional Sanitation District.

Filed Date: 01/26/2009.

Accession Number: 20090127-0164.

Comment Date: 5 p.m. Eastern Time on Tuesday, February 17, 2009.

Docket Numbers: ER09-574-000.

Applicants: Southwest Power Pool, Inc.

Description: Southwest Power Pool, Inc. submits revised pages to its Open Access Transmission Tariff intended to modify the transmission and base plan rates for certain pricing zones under SPP's Tariff.

Filed Date: 01/26/2009.

Accession Number: 20090128-0228.

Comment Date: 5 p.m. Eastern Time on Tuesday, February 17, 2009.

Docket Numbers: ER09-575-000.

Applicants: Southwest Power Pool, Inc.

Description: Southwest Power Pool, Inc. submits revised pages to its Open Access Transmission Tariff intended to modify the transmission and base plan rates for certain pricing zones under SPP's Tariff.

Filed Date: 01/26/2009.

Accession Number: 20090128-0229.

Comment Date: 5 p.m. Eastern Time on Tuesday, February 17, 2009.

Docket Numbers: ER09-576-000.

Applicants: PacifiCorp.

Description: PacifiCorp submits a Network Integration Transmission Service Agreement dated 12/11/08 with Bonneville Power Administration etc.

Filed Date: 01/28/2009.

Accession Number: 20090129-0143.

Comment Date: 5 p.m. Eastern Time on Wednesday, February 18, 2009.

Docket Numbers: ER09-577-000.

Applicants: Delmarva Power & Light Company.

Description: Delmarva Power & Light Co submits an executed Construction Agreement with Delaware Municipal Electric Corp, Inc.

Filed Date: 01/28/2009.

Accession Number: 20090129-0147.

Comment Date: 5 p.m. Eastern Time on Wednesday, February 18, 2009.

Take notice that the Commission received the following open access transmission tariff filings:

Docket Numbers: OA08-78-002.

Applicants: MidAmerican Energy Company.

Description: Compliance Filing of MidAmerican Energy Company to conform OATT to Order No. 890-A as clarified by the Dec. 30, 2008 Order.

Filed Date: 01/29/2009.

Accession Number: 20090129-5044.

Comment Date: 5 p.m. Eastern Time on Thursday, February 19, 2009.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-2418 Filed 2-4-09; 8:45 am]

BILLING CODE 6717-01-P